DEPARTMENT OF THE INTERIOR

Bureau of Indian Affairs

[223A2100DD/AAK3003100/A0C904040.99990]

Annual Meeting of Federal Partners and Tribal 477 Workgroup Under Indian Employment, Training and Related Services Act of 2017

AGENCY: Bureau of Indian Affairs, Interior.

ACTION: Notice of meeting.

SUMMARY: The Department of the Interior, Bureau of Indian Affairs (BIA), announces the annual meeting of Federal agencies and Tribes that participate in the Indian Employment, Training, and Related Services Act of 2017 also known as the “Public Law 477 Work Group.” The meeting will be conducted virtually via MS Teams and by telephone.

DATES:

• Meeting: The annual Federal Partner and Tribal 477 Work Group meeting will be held on Monday, September 12, 2022, from 2:00 p.m. to 4 p.m. Eastern Daylight Time (EDT).

• Comments: Interested persons are invited to submit comments on or before October 25, 2022. Please see ADDRESSES below for details on how to submit written comments.

ADDRESSES: All Work Group activities and meetings will be conducted online and by phone. See the SUPPLEMENTARY INFORMATION section of this notice for directions to join MS Teams and by telephone. Send your comments to Johnna Blackhair, Acting Deputy Bureau Director, Indian Services, Bureau of Indian Affairs, 849 C Street NW, MS-3645-MIB, Washington, DC 20240; or by email to Johnna.Blackhair@bia.gov. Please reference the Public Law 477 Work Group in the subject line of your email.

FOR FURTHER INFORMATION CONTACT: Johnna Blackhair, Acting Deputy Bureau Director, Indian Services, Bureau of Indian Affairs, Johnna.Blackhair@bia.gov (202) 513-7640.

SUPPLEMENTARY INFORMATION: The annual Federal Partner and Tribal 477 Work Group meeting will be held virtually by MS Teams video conference using the Teams link provided below or by audio only using the call-in and passcode identified below.

Background

In 2017, Congress enacted the Indian Employment Training and Related Services Consolidation Act of 2017, Public Law 115-93, codified at 25 U.S.C. 3401-3417 (“2017 Act”). The 2017 Act amended and expanded the Indian Employment and Related Services Demonstration Act of 1992, Public Law 102-477 by, in part, identifying twelve Federal agencies that are now subject to the amended law (as amended by the 2017 Act, “PL477”).

Under PL477, Tribes may propose to integrate eligible grant programs from the Departments of the Interior, Agriculture, Commerce, Education, Energy, Health & Human Services, Homeland Security, Housing & Urban Development, Justice, Labor, Transportation, and Veterans Affairs, consolidate and reprogram grant funds in accordance with a single plan, budget, and report approved by the Secretary of the Interior (“477 Plan”). As required by PL477, the Department of the Interior and its eleven partner Federal agencies entered into a Memorandum of Agreement (MOA) governing the implementation of PL477. That MOA is being renegotiated among the twelve Federal partners and Tribal representatives.

Annual Meeting

As directed by PL477, the meeting will be co-chaired by the Assistant Secretary—Indian Affairs, Bryan Newland, and the 477 Tribal Workgroup Committee Co-Chairs, Margaret Zientek (Contiguous 48) and Holly Morales (Alaska). The meeting will be held virtually, and the agenda will include:

I. Status of renegotiated Memorandum of Agreement

II. Status of Labor Force Report

III. Summary Status of Participating 477 Tribes (FY 2022)

A. 477 Programs Integrated

B. Plan Approval/Denial Process

C. Waiver Approvals/Denials

D. Fund Transfer

E. Annual Reports—Annual Report Roll Up/Statistical and Financial Summary

F. Discussion of OMB 1076-0135 (version 2) Reporting Form (extended to 02-28-24)

IV. Tribal Recognitions

V. 2022 Report(s) from the 12 Federal Partners

VI. Miscellaneous

A. Establish Annual Meeting and Bi-monthly meeting between Tribes and Federal agencies

B. Discussion of Procedures for updating the 477 Annual Report form

C. Forum and Discussion regarding Conflict Resolution

VII. Adjourn

Virtual Meeting Access

To join and participate in the virtual meeting, please use the following connection information:

• Virtual (via MS Teams): https://teams.microsoft.com/l/meetup-join/19%3ameeting_OWQ0Njc0YzAtNjk3NS00NGI3LTljZTQtNzgxMDc2ZDM4ZTAz%40thread.v2/0?context=%7b%22Tid%22%3a%220693b5ba-4b18-4d7b-9341-f32f400a5494%22%2c%22Oid%22%3a%228c3cb591-9152-407a-a266-1d4d82c42be6%22%7d

• Meeting ID: 266 231 890 013

• Passcode: aiNWGU

Audio Meeting Access

To join and participate in the virtual meeting, please use the following connection information:

• Call in (audio only): (202) 640-1187

• Passcode: 189 696 857#

Authority

This notice is published in accordance with 25 U.S.C. 3410(a)(3)(B)(i).

Bryan Newland,
Assistant Secretary—Indian Affairs.

[FR Doc. 2022-18464 Filed 8-25-22; 8:45 am]

BILLING CODE 4337-15-P